DEPARTMENT OF ENERGY

Proposed Agency Information Collection

AGENCY: Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 1, 2004. If you anticipate difficulty in submitting comments within that period, contact the person listed below as soon as possible.

ADDRESSES: Written comments may be sent to Joseph Konrade, EE-2K, Forestal Building, U.S. Department of Energy, 1000 Independence Ave., SW., Washington, DC 20585, or by fax at 202-586-1233 or by e-mail at joseph.konrade@ee.doe.gov and to Susan L. Frey, Director, Records Management Division, IM-11/Germantown Bldg., Office of the Chief Information Officer, U.S. Department of Energy, 1000 Independence Ave., SW., Washington, DC 20585-1290 or by fax, 301-903-9061 or by e-mail susan.frey@hq.doe.gov.

FOR FURTHER INFORMATION CONTACT: Requests for additional information or copies of the information collection instrument and instructions should be directed to Joseph Konrade at the address listed above.

SUPPLEMENTARY INFORMATION: This package contains: (1) OMB No.: 1910-New; (2) Package Title: Weatherization Assistance Program; (3) Type of Review: New; (4) Purpose: Implementation of the Weatherization Assistance Program to increase the energy efficiency of dwellings owned or occupied by low income persons, reduce their total residential expenditure and improve their health and safety, especially low income persons who are particularly vulnerable such as the elderly, persons with disabilities, families with children, high residential energy users and households with high energy burden. DOE proposes to institute an electronic database concerning State Low Income Weatherization Assistance Plans to provide Web accessible program information for Congressional, budgetary, and public use. Information for the database is to be collected using four forms to be submitted electronically: (1) Annual File Worksheet; (2) Quarterly Report; (3) Annual Report for Monitoring and Technical Assistance Leveraging, and; (4) Points of Contact. With the exception of the last, these forms will replace forms calling for information that respondents already supply to DOE pursuant to current OMB clearances; (5) Respondents: Fifty States and District of Columbia and Native American Tribes; (6) Estimated Number of Burden Hours: Burden is estimated at 23 hours per state/territory totaling 1196 hours.

Statutory Authority: This collection of program information is in accordance with 10 CFR 440.

Issued in Washington, DC on August 25, 2004.
Lorretta D. Bryant,
Acting Director, Records Management Division, Office of the Chief Information Officer.

[FR Doc. 04-20031 Filed 9-1-04; 8:45 am]

BILLING CODE 6450-01-P